DEPARTMENT OF THE INTERIOR

National Park Service

[NPS-WASO-NRNHL-13659; PPWOCRADI0, PCU00RP14.R50000]

National Register of Historic Places; Notification of Pending Nominations and Related Actions

Nominations for the following properties being considered for listing or related actions in the National Register were received by the National Park Service before July 27, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 3, 2013. Before including your address, phone number, email address, or other personal identifying information in your comment, you should be aware that your entire comment—including your personal identifying information—may be made publicly available at any time. While you can ask us in your comment to withhold your personal identifying information from public review, we cannot guarantee that we will be able to do so.

Dated: July 30, 2013.
J. Paul Loether,
Chief, National Register of Historic Places/National Historic Landmarks Program.

GEORGIA

Gwinnett County

Lawrenceville Downtown Commercial Historic District, Bounded by Culver, Oak, Jackson & Lucky Sts., Lawrenceville, 13000687

IOWA

Black Hawk County

John Deere Tractor Company C-2 Manufacturing Plant, 360 Westfield Ave., Waterloo, 13000689

Dubuque County

Dunleith and Dubuque Bridge, (Highway Bridges of Iowa MPS) 7600 Chavenelle Dr., Dubuque, 13000690

Johnson County

Wehner, Roland and Marilyn, House, 3112 IA 1, Iowa City, 13000691

Linn County

B Avenue NE. Historic District, B Ave., NE. from 15th to 21st Sts., Cedar Rapids, 13000692

LOUISIANA

Madison Parish

Tallulah High School, 603 Bayou Dr., Tallulah, 13000693

Orleans Parish

Building at 225 Baronne Street, 225 Baronne St., New Orleans, 13000694

U.S. Naval Station Algiers Historic District, Roughly bounded by Mississippi R. levee, Heerman, Constitution & Carmick Sts., New Orleans, 13000695

NEW YORK

Queens County

First Presbyterian Church of Newtown, 54-05 Seabury St., Elmhurst, 13000696

St. Lawrence County

Watkins-Sisson House, 14 Leroy St., Potsdam, 13000697

NORTH CAROLINA

Brunswick County

Orton Plantation (Boundary Increase), 9149 Orton Rd., Winnabow, 13000698

Montgomery County

Star Historic District, Roughly bounded by College, 1st & Dameron Sts., Star, 13000699

Moore County

Moore County Hunt Lands and Mile-Away Farms, 1745 N. May St., Southern Pines, 13000700

OHIO

Tuscarawas County

Zoar Historic District (Boundary Increase), Roughly bounded by Zoar Cemetery, Cemetery Rd., Lake Dr., Tuscarawas R., NC 212, 5th, E. 2nd & East Sts., Zoar, 13000701

OKLAHOMA

Adair County

Ballard Creek Roadbed, (Cherokee Trail of Tears MPS) Address Restricted, Westville, 13000702

Carter County

Turner House, 1501 3rd Ave. SW., Ardmore, 13000703

Craig County

Walker Farmhouse, (Cherokee Trail of Tears MPS) Address Restricted, Welch, 13000705

Oklahoma County

Wesley Hospital, 300 NW 12th St., Oklahoma City, 13000706

OREGON

Marion County

Odd Fellows Rural Cemetery, 2201 Commercial St. SE., Salem, 13000707

VIRGINIA

Hampton Independent city

Fort Monroe (Stone Fort), Address Restricted, Fort Monroe, 13000709

Fort Monroe Historic District (Boundary Increase), Address Restricted, Fort Monroe, 13000708

Orange County

Mount Sharon, 19184 Mount Sharon Ln., Orange, 13000710

WISCONSIN

Clark County

Neillsville Standpipe, 325 E. 4th St., Neillsville, 13000711

[FR Doc. 2013-19890 Filed 8-15-13; 8:45 am]

BILLING CODE 4312-51-P